SMALL BUSINESS ADMINISTRATION

[Disaster Declaration #20670 and #20671; NEBRASKA Disaster Number NE-20005]

Presidential Declaration Amendment of a Major Disaster for Public Assistance Only for the State of Nebraska

AGENCY: U.S. Small Business Administration.

ACTION: Amendment 1.

SUMMARY: This is an amendment of the Presidential declaration of a major disaster for Public Assistance Only for the State of Nebraska (FEMA-4822-DR), dated September 24, 2024.

Incident: Severe Storms, Straight-line Winds, Tornadoes, and Flooding.

DATES: Issued on October 23, 2024.

Incident Period: June 19, 2024 through July 8, 2024.

Physical Loan Application Deadline Date: November 25, 2024.

Economic Injury (EIDL) Loan Application Deadline Date: June 24, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for Private Non-Profit organizations in the State of Nebraska, dated September 24, 2024, is hereby amended to update the incident period as beginning June 19, 2024 and continuing through July 8, 2024. The notice is also amended to include the following areas as adversely affected by the disaster.

Primary Counties: Richardson.

All other information in the original declaration remains unchanged.

(Catalog of Federal Domestic Assistance Number 59008)

Rafaela Monchek,
Deputy Associate Administrator, Office of Disaster Recovery & Resilience.

[FR Doc. 2024-25378 Filed 10-30-24; 8:45 am]

BILLING CODE 8026-09-P